DEPARTMENT OF JUSTICE

[AAG/A Order No. 007-2007]

Privacy Act of 1974; Removal of a System of Records Notice

Pursuant to the provisions of the Privacy Act of 1974 (5 U.S.C. 552a), the Department of Justice (DOJ) is removing a published notice of a Privacy Act system of records: the Deputy Attorney General's (DAG) “Miscellaneous Attorney Personnel Records System, JUSTICE/DAG-011,” last published in the Federal Register on October 21, 1985 at 50 FR 42613.

The information contained within this system of records is now covered by two applicable notices of systems of records of the Office of Personnel Management (OPM): “General Personnel Records, OPM/GOVT-1,” last published in the Federal Register on June 19, 2006 at 71 FR 35342; and “Records of Adverse Actions, Performance Based Reduction in Grade and Removal Actions, and Termination of Probationers, OPM/GOVT-3,” last published in the Federal Register on June 19, 2006 at 71 FR 35342, 35350. The DAG “Miscellaneous Attorney Personnel Records System” records are also covered by a Department-wide system notice, “Personnel Investigation and Security Clearance Records for the Department of Justice, DOJ-006,” last published in full text in the Federal Register on September 24, 2002 at 67 FR 59864, and amended in part on November 10, 2004 at 69 FR 65224.

Therefore, the notice of “Miscellaneous Attorney Personnel Records System, JUSTICE/DAG-011” is removed from the Department's listing of Privacy Act systems of records notices, effective on the date of publication of this notice.

Dated: March 6, 2007.
Lee J. Lofthus,
Assistant Attorney General for Administration.

[FR Doc. E7-4776 Filed 3-14-07; 8:45 am]

BILLING CODE 4410-PB-P